FEDERAL COMMUNICATIONS COMMISSION

47 CFR Part 54

[WC Docket No. 13-184; FCC 14-99]

Modernization of the Schools and Libraries “E-Rate” Program

AGENCY: Federal Communications Commission.

ACTION: Proposed rule, correction.

SUMMARY: This document corrects errors in the supplementary information section of a Federal Register document regarding the Commission taking major steps to modernize the E-rate program (more formally known as the schools and libraries universal service support mechanism). The Commission sought further comment on meeting the future funding needs of the E-rate program in light of the goals it adopted for the program in an accompanying Report and Order. The Commission acknowledges that modernizing a program of this size and scope cannot be accomplished at once and so it will continue to seek public input and additional ideas to bring 21st Century broadband to libraries and schools throughout the country. The document was published in the Federal Register on August 19, 2014.

DATES: The proposed rule published August 19, 2014 (79 FR 49036) is corrected as of November 18, 2014.

FOR FURTHER INFORMATION CONTACT: James Bachtell or Kate Dumouchel, Wireline Competition Bureau, Telecommunications Access Policy Division, at (202) 418-7400 or TTY: (202) 418-0484.

Correction

In proposed rule FR Doc. 2014-18936, beginning on page 49036 (August 19, 2014), make the following corrections in the Supplementary Information section.

1. On page 49037, in the first column, in paragraph 3, thirtieth line, remove the word “programs” and add in its place the word “program's.”

2. On page 49039, in the third column, in paragraph 19, fifth line, remove the words “E-rate Modernization Order” and add in its place the words “Report and Order.”

3. On page 49040, in the first column, in paragraph 22, remove the word “5000” and add in its place the word “5,000.”

4. On page 49041, in the second column, in paragraph 33, twelfth line, remove the word “we.”

Federal Communications Commission.
Marlene H. Dortch,
Secretary.

[FR Doc. 2014-25522 Filed 11-17-14; 8:45 am]

BILLING CODE 6712-01-P